COMMITTEE FOR PURCHASE FROM PEOPLE WHO ARE BLIND OR SEVERELY DISABLED

Procurement List Deletions

AGENCY: Committee for Purchase From People Who are Blind or Severely Disabled.

ACTION: Deletions from the Procurement List.

SUMMARY: This action deletes products from the Procurement List previously furnished by nonprofit agencies employing persons who are blind or have other severe disabilities.

EFFECTIVE DATE: May 7, 2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Deletions

On 2/24/2017 (82 FR 11562), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

PRODUCTS

NSN(s)—Product Name(s): PSIN 01249A—Replaced—Tray Marker

PSIN 01249B—Replaced—Tray Marker

PSIN 01249C—Replaced—Tray Marker

PSIN 01249D—Replaced—Tray Marker

PSIN 01249E—Replaced—Tray Marker

PSIN 01249F—Replaced—Tray Marker

PSIN 01250A—Replaced—Tray Marker

PSIN 01250B—Replaced—Tray Marker

PSIN 01250C—Replaced—Tray Marker

PSIN 01250D—Replaced—Tray Marker

PSIN 01250E—Replaced—Tray Marker

PSIN 01250F—Replaced—Tray Marker

PSIN 1251A—Replaced—Tray Marker

PSIN 1251B—Replaced—Tray Marker

PSIN 1251C—Replaced—Tray Marker

PSIN 1251D—Replaced—Tray Marker

PSIN 1251E—Replaced—Tray Marker

PSIN 1251F—Replaced—Tray Marker

PSIN 1251G—Replaced—Tray Marker

Mandatory Source(s) of Supply: Brooke Industries, Inc., Fond du Lac, WI

Contracting Activity: USPS Vehicles & Delivery and Industrial Equipment CMC

NSN(s)—Product Name(s): 8465-00-521-3057F—Case, Belt Weather Kit

Contracting Activity: General Services Administration, Fort Worth, TX

NSN(s)—Product Name(s): 8465-00-521-3057—Case, Belt Weather Kit

Contracting Activity: Defense Logistics Agency Troop Support

Mandatory Source(s) of Supply: Habilitation Center for the Handicapped, Inc., Boca Raton, FL

Amy B. Jensen,
Director, Business Operations.

[FR Doc. 2017-06973 Filed 4-6-17; 8:45 am]

BILLING CODE 6353-01-P